ENVIRONMENTAL PROTECTION AGENCY

[ER-FRL-6694-5]

Environmental Impact Statements and Regulations; Availability of EPA Comments

Availability of EPA comments prepared pursuant to the Environmental Review Process (ERP), under section 309 of the Clean Air Act and Section 102(2)(c) of the National Environmental Policy Act as amended. Requests for copies of EPA comments can be directed to the Office of Federal Activities at 202-564-7167.

An explanation of the ratings assigned to draft environmental impact statements (EISs) was published in FR dated April 6, 2007 (72 FR 17156).

Draft EISs

EIS No. 20070357, ERP No. D-BLM-J65490-UT, Moab Field Office Planning Area, Resource Management Plan, Implementation, Grand and San Juan Counties, UT.

Summary: EPA expressed environmental concerns about air quality impacts and the; mitigation measures proposed under the Preferred Alternative (Alternative C) not being able to fully address significant environmental impacts associated with travel and recreation management issues. Consequently, EPA recommends specific environmentally-protective mitigation measures be included in the final EIS.

Rating EC2.

EIS No. 20070406, ERP No. D-AFS-L65500-AK, Iyouktug Timber Sales, Proposes Harvesting Timber, Implementation, Hoonah Ranger District, Tongass National Forest, Hoonah, AK.

Summary: EPA expressed environmental concerns about potential adverse impacts to water quality and wetlands. The final EIS should include additional information about effected resources and mitigation measures to avoid or compensate for impacts.

Rating EC2.

EIS No. 20070476, ERP No. D-FRC-G03035-00, Gulf Crossing Project, Construction and Operation of Natural Gas Pipeline to Facilitate the Transport of up to 1.73 Billion Cubic Feet Per Day of Natural Gas, Locate in various Counties and Parishes in OK, TX, LA, and MS.

Summary: EPA expressed environmental concerns about wetland, air quality, and environmental justice impacts, and requested additional information and mitigation measures for these issues.

Rating EC2.

EIS No. 20070443, ERP No. DS-FTA-K54022-CA, Third Street Light Rail Phase 2, Updated Information on the Central Subway Project Area, Funding, San Francisco Municipal Transportation Agency, in the City and County San Francisco, CA.

Summary: EPA does not object to the proposed project.

Rating LO.

Final EISs

EIS No. 20070459, ERP No. F-FRC-E05102-SC, Santee Cooper Hydroelectric Project (FERC. No. 199), Relicensing for Existing 130-megawatt (MW), Santee and Cooper Rivers, Berkeley, Calhoun, Clarendon, Orangeburg and Sumter Counties, SC.

Summary: EPA's previous concerns have been resolved; therefore, EPA does not object to the proposed action.

EIS No. 20070489, ERP No. F-DOE-A09834-00, FutureGen Project, Planning, Design, Construction and Operation of a Coal Fueled Electric Power and Hydrogen Gas Production Plant, Four Alternative Sites: Mattoon, IL, Tuscola, IL, Jewett, TX, and Odessa, TX.

Summary: EPA does not object to the proposed project.

EIS No. 20070522, ERP No. F-IBR-K39109-CA, Lower Yuba River Accord, Proposal to Resolve Instream Flow Issues Associated with Operation, Yuba River, Yuba County, CA.

Summary: No formal comment letter was sent to the preparing agency.

EIS No. 20070494, ERP No. LF-COE-G39050-LA, Mississippi River—Gulf Outlet (MRGO) Deep-Draft Navigation De-Authorization Study, Implementation, St. Bernard Parish, LA.

Summary: No formal comment letter was sent to the preparing agency.

Dated: December 21, 2007.
Robert W. Hargrove,
Director, NEPA Compliance Division, Office of Federal Activities.

[FR Doc. E7-25192 Filed 12-27-07; 8:45 am]

BILLING CODE 6560-50-P